DEPARTMENT OF ENERGY

Federal Energy Regulatory Commission

[Docket Nos. CP16-3-000 and CP16-3-001]

Texas Eastern Transmission, LP; Supplemental Notice of Intent To Prepare an Environmental Assessment for the Proposed Access South, Adair Southwest, and Lebanon Extension Projects and Request for Comments on Environmental Issues

The staff of the Federal Energy Regulatory Commission (FERC or Commission) will prepare an environmental assessment (EA) that will discuss the environmental impacts of the Access South, Adair Southwest, and Lebanon Extension Projects (Projects) in Docket Nos. CP16-3-000 and CP16-3-001. The Projects involve construction, abandonment, and operation of facilities by Texas Eastern Transmission, LP (Texas Eastern) that would enable an additional 622,000 dekatherms per day of natural gas transportation on Texas Eastern's existing mainline facilities to serve markets in the Midwest and Southeast. The Commission will use this EA in its decision-making process to determine whether the project is in the public convenience and necessity.

This notice announces the opening of a second scoping period that the Commission will use to gather input from the public on the Projects. The Commission is opening a second scoping period for affected landowners who were not included in the mailing list for the original Notice of Intent (NOI) issued for the Projects on August 1, 2015 during the pre-filing review process under Docket Number PF15-17-000. This includes landowners near twelve existing compressor stations where Texas Eastern proposes to replace pipeline or modify facilities to allow for reverse flow capabilities, including one compressor station where it proposes to install additional compression facilities. Texas Eastern's proposal is more fully described on page 3 of this notice.

You can make a difference by providing us with your specific comments or concerns about the Projects. Your comments should focus on the potential environmental effects, reasonable alternatives, and measures to avoid or lessen environmental impacts. Your input will help the Commission staff determine what issues they need to evaluate in the EA. To ensure that your comments are timely and properly recorded, please send your comments so that the Commission receives them in Washington, DC on or before June 16, 2016.

Landowners receiving this notice are primarily abutters to Texas Eastern's existing compressor stations where modifications are proposed or are within 0.5 mile of the Tompkinsville Compressor Station in Monroe County, Kentucky, where additional compression is proposed. One landowner receiving this notice is directly affected by the proposed replacement pipeline at Kosciusko Compressor Station in Attala County, Mississippi, and Texas Eastern has stated it has contacted this landowner. The company will seek to negotiate a mutually acceptable agreement regarding acquisition of any easements needed to construct, operate, and maintain the replacement pipeline. However, if the Commission approves the Projects, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically asked questions, including the use of eminent domain and how to participate in the Commission's proceedings.

Public Participation

For your convenience, there are three methods you can use to submit your comments to the Commission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket numbers (CP16-3-000 and CP16-3-001) with your submission: Kimberly D. Bose, Secretary, Federal Energy Regulatory Commission, 888 First Street NE., Room 1A, Washington, DC 20426.

Summary of the Proposed Project

The proposed pipeline facilities for the Projects include 15.8 miles of 36-inch-diameter pipeline loop ¹ in three segments, most of which would be either within or adjacent to Texas Eastern's existing rights-of-way in Athens, Meigs, Noble, and Monroe Counties, Ohio; and 0.5 mile of 16-inch-diameter replacement pipeline within an existing right-of-way in Attala County, Mississippi. In addition two pig ² launcher/receivers would be relocated and two new pig launcher/receivers would be installed in Monroe County, Ohio. Proposed modifications to aboveground facilities would include modifications necessary to allow for bi-directional flow and meter reversals at twelve existing compressor stations which are proposed to be located primarily within Texas Eastern's current footprint. In addition, a new 16,875 horsepower electric compressor would be added at the Tompkinsville Compressor Station in Monroe County, Kentucky.

¹ A pipeline loop is a segment of pipe constructed parallel to an existing pipeline to increase capacity.

² A “pig” is a tool that the pipeline company inserts into and pushes through the pipeline for cleaning the pipeline, conducting internal inspections, or other purposes.

The proposed modifications at twelve existing compressor station sites would include piping modifications to accommodate bi-directional flow capability along Texas Eastern's existing mainline. These modifications are proposed at the following compressor stations:

• Holbrook Compressor Station in Greene County, Pennsylvania;

• Lebanon Compressor Station in Warren County, Ohio;

• Somerset Compressor Station in Perry County, Ohio;

• Berne Compressor Station in Monroe County, Ohio;

• Athens Compressor Station in Athens County, Ohio;

• Owingsville Compressor Station in Bath County, Kentucky;

• Danville Compressor Station in Lincoln County, Kentucky;

• Tompkinsville Compressor Station in Monroe County, Kentucky;

• Gladeville Compressor Station in Wilson County, Tennessee;

• Barton Compressor Station in Colbert County, Alabama;

• Egypt Compressor Station in Monroe County, Mississippi; and

• Kosciusko Compressor Station in Attala County, Mississippi.

The general location of the Projects facilities is shown in appendix 1.³

³ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the proposed facilities would disturb about 283.7 acres of land for the pipeline loops and replacement, including extra workspace and access roads, and 341.0 acres of previously disturbed land at compressor station facilities. Following construction, Texas Eastern would maintain an additional 96.8 acres for permanent operation of the Projects' facilities; the remaining acreage would be restored and revert to former uses. The proposed loops would be located mostly adjacent to Texas Eastern's existing pipeline rights-of-way and construction at the compressor stations would occur at existing facilities where no permanent expansion of the facilities would occur.

The EA Process

The National Environmental Policy Act (NEPA) requires the Commission to take into account the environmental impacts that could result from an action whenever it considers the issuance of a Certificate of Public Convenience and Necessity. NEPA also requires us ⁴ to discover and address concerns the public may have about proposals. This process is referred to as scoping. The main goal of the scoping process is to focus the analysis in the EA on the important environmental issues. By this notice, the Commission requests public comments on the scope of the issues to address in the EA. We will consider all filed comments during the preparation of the EA.

⁴ “We,” “us,” and “our” refer to the environmental staff of the Commission's Office of Energy Projects.

In the EA we will discuss impacts that could occur as a result of the construction and operation of the proposed Projects under these general headings:

• Geology and soils;

• Land use;

• water resources, fisheries, and wetlands;

• cultural resources;

• vegetation and wildlife;

• air quality and noise;

• endangered and threatened species;

• public safety; and

• cumulative impacts.

We will also evaluate possible alternatives to the proposed Projects or portions of the Projects, and make recommendations on how to lessen or avoid impacts on the various resource areas.

The EA will present our independent analysis of the issues. The EA will be available in the public record through eLibrary. Depending on the comments received during the scoping process, we may also publish and distribute the EA to the public for an allotted comment period. We will consider all comments on the EA before we make our recommendations to the Commission. To ensure we have the opportunity to consider and address your comments, please carefully follow the instructions in the Public Participation section, beginning on page 2.

Consultations Under Section 106 of the National Historic Preservation Act

In accordance with the Advisory Council on Historic Preservation's implementing regulations for section 106 of the National Historic Preservation Act, we have initiated consultation with the applicable State Historic Preservation Offices, and to solicit their views and those of other government agencies, interested Indian tribes, and the public on the Projects' potential effects on historic properties.⁵ We will define the project-specific Area of Potential Effects (APE) in consultation with the SHPOs as the Projects develop. On natural gas facility projects, the APE at a minimum encompasses all areas subject to ground disturbance (examples include construction right-of-way, contractor/pipe storage yards, compressor stations, and access roads). Our EA for the Projects will document our findings on the impacts on historic properties and summarize the status of consultations under section 106.

⁵ The Advisory Council on Historic Preservation regulations are at Title 36, Code of Federal Regulations, Part 800. Those regulations define historic properties as any prehistoric or historic district, site, building, structure, or object included in or eligible for inclusion in the National Register of Historic Places.

Environmental Mailing List

The environmental mailing list for the Projects includes federal, state, and local government representatives and agencies; elected officials; environmental and public interest groups; Native American Tribes; and local libraries and newspapers. This list also includes all affected landowners (as defined in the Commission's regulations) who are potential right-of-way grantors, whose property may be used temporarily for project purposes, or who own homes within certain distances of aboveground facilities, and anyone who submits comments on the Projects. The mailing list for this supplemental NOI just includes landowners who were not previously notified by the original NOI and are abutters to Texas Eastern's compressor stations or within 0.5 mile of the Tompkinsville Compressor Station in Monroe County, Kentucky where additional compression is proposed. We will update the environmental mailing list as the analysis proceeds to ensure that we send the information related to this environmental review to all individuals, organizations, and government entities interested in and/or potentially affected by the proposed Projects.

If we publish and distribute the EA, copies of the EA will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Because you were not notified by the original NOI, you may still intervene.

Additional Information

Additional information about the project is available from the Commission's Office of External Affairs, at (866) 208-FERC, or on the FERC Web site (www.ferc.gov) using the eLibrary link. Click on the eLibrary link, click on “General Search” and enter the docket number, excluding the last three digits in the Docket Number field (i.e., CP16-3). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: May 17, 2016.
Kimberly D. Bose,
Secretary.

[FR Doc. 2016-12062 Filed 5-20-16; 8:45 am]

BILLING CODE 6717-01-P